AGENCY FOR INTERNATIONAL DEVELOPMENT

Notice of May 17 President's Global Development Council Meeting

AGENCY: United States Agency for International Development.

ACTION: Notice of meeting.

SUMMARY: Pursuant to the Federal Advisory Committee Act, notice is hereby given of a meeting of the President's Global Development Council (GDC).

Date: Friday, May 17, 2013.

Time: TBD.

Location: Eisenhower Executive Office Building, South Court Auditorium, Pennsylvania Avenue and 17th Street NW.

Because of the exceptional circumstances of coordinating high-level schedules and other logistics this notice is being provided less than 15 days prior pursuant to 5 CFR 102-3.150(b).

Agenda

I. Opening Remarks: Vision for the GDC

II. Overview of the GDC's Role & Efforts

III. Presentations on Key Issues

IV. Request for Feedback and Q&A

Stakeholders

The meeting is free and open to the public. Persons wishing to attend should RSVP to Interest_GDC@who.eop.gov. Please note that capacity is limited. Additional information on web streaming will be forthcoming on www.whitehouse.gov.

FOR FURTHER INFORMATION CONTACT: Jayne Thomisee, 202-712-5506.

Dated: May 3, 2013.
Jayne Thomisee,
Executive Director & Policy Advisor, U.S. Agency for International Development.

[FR Doc. 2013-11025 Filed 5-8-13; 8:45 am]

BILLING CODE 6116-02-P